DEPARTMENT OF THE INTERIOR

Bureau of Land Management

[MT-960-1150-PG]

Dakotas Advisory Council Meeting

AGENCY: Bureau of Land Management, North Dakota Field Office, Interior.

ACTION: Notice of meeting; Dakotas Advisory Council Meetings.

SUMMARY: A meeting of the Dakotas Resource Advisory Council will be held July 10 & 11, 2000, at the Travel Lodge, Dickinson, North Dakota. The session will convene at 8 a.m. on July 10th and resume at 8 a.m. on the 11th. Agenda items will include OHV followup, South Dakota Land Exchange, grazing permit renewal update, Schnell signing, Endangered Species (sage grouse and prairie dogs), Grasslands Stewardship Initiative, Field Trip to Schnell Recreation Area.

The meeting is open to the public and a public comment period is set for 8 a.m. on July 11th. The public may make oral statements before the Council or file written statements for the Council to consider. Depending on the number of persons wishing to make an oral statement, a per-person time limit may be established. Summary minutes of the meeting will be available for public inspection and copying.

The 15-member Council advises the Secretary of the Interior, through the BLM, on a variety of planning and management issues associated with public land management in the Dakotas.

FOR FURTHER INFORMATION CONTACT: Douglas Burger, Field Office Manager, North Dakota Field Office, 2933 3rd Ave. W., Dickinson, North Dakota. Telephone (701) 225-9148.

Dated: May 10, 2000.
Douglas J. Burger,
Field Office Manager.

[FR Doc. 00-13122 Filed 5-24-00; 8:45 am]

BILLING CODE 4310-$$-U